ENVIRONMENTAL PROTECTION AGENCY

[FRL OP-OFA-093]

Environmental Impact Statements; Notice of Availability

Responsible Agency: Office of Federal Activities, General Information 202-564-5632 or https://www.epa.gov/nepa.

Weekly receipt of Environmental Impact Statements (EIS)

Filed October 23, 2023 10 a.m. EST Through October 30, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230149, Final, NNSA, CA, Final Site-Wide Environmental Impact Statement for Continued Operation of The Lawrence Livermore National Laboratory, Review Period Ends: 12/04/2023, Contact: Mr. Tom Grim, NEPA Document Manager 833-778-0508.

EIS No. 20230150, Final, BR, CA, Sites Reservoir Project Final Environmental Impact Report/Environmental Impact Statement, Review Period Ends: 12/04/2023, Contact: Allison Jacobson 916-978-5075.

EIS No. 20230151, Final, FHWA, AR, Walnut Ridge—Missouri State Line (Future I-57), Contact: Randal Looney 501-324-6430.

Under 23 U.S.C. 139(n)(2), FHWA has issued a single document that consists of a final environmental impact statement and record of decision. Therefore, the 30-day wait/review period under NEPA does not apply to this action.

EIS No. 20230152, Final, NMFS, NJ, ADOPTION—Ocean Wind 1 Offshore Wind Farm, Contact: Kelsey Potlock 301-427-8410.

The National Marine Fisheries Service (NMFS) has adopted the Bureau of Ocean Energy Management's Final EIS No. 20230070 filed 05/22/2023 with the Environmental Protection Agency. The NMFS was a cooperating agency on this project. Therefore, republication of the document is not necessary under Section 1506.3(b)(2) of the CEQ regulations.

EIS No. 20230153, Final, USDA, WA, ADOPTION—Odessa Subarea Special Study Columbia Basin Project To Replace Groundwater Currently Used for Irrigation Grant Adams Walla Walla and Franklin Counties WA, Review Period Ends: 12/11/2023, Contact: Jules Riley 539-323-2941.

The Department of Agriculture (USDA) has adopted the Bureau of Reclamation's Final EIS No. 20120286 filed 08/28/2012 with the Environmental Protection Agency. The USDA was not a cooperating agency on this project. Therefore, republication of the document is necessary under Section 1506.3(b)(1) of the CEQ regulations.

Amended Notice

EIS No. 20230113, Draft, USACE, ND, Dakota Access Pipeline Lake Oahe Crossing Project, Comment Period Ends: 12/13/2023, Contact: Brent Cossette 402-995-2716.

Revision to FR Notice Published 09/08/2023; Extending the Comment Period from 11/13/2023 to 12/13/2023.

Dated: October 31, 2023.
Nancy Abrams,
Associate Director, Office of Federal Activities.

[FR Doc. 2023-24320 Filed 11-2-23; 8:45 am]

BILLING CODE 6560-50-P